DEPARTMENT OF HOMELAND SECURITY

U.S. Customs and Border Protection

Agency Information Collection Activities: Entry Summary

AGENCY: U.S. Customs and Border Protection, Department of Homeland Security.

ACTION: 30-Day notice and request for comments; revision and extension of an existing information collection: 1651-0022.

SUMMARY: U.S. Customs and Border Protection (CBP) of the Department of Homeland Security will be submitting the following information collection request to the Office of Management and Budget (OMB) for review and approval in accordance with the Paperwork Reduction Act: Entry Summary (CBP Form 7501). This is a proposed revision and extension of an information collection that was previously approved. CBP is proposing that this information collection be revised and extended with a change to the burden hours and to the information collected as a result of the addition of the new proposed Document/Payment Transmittal form. This document is published to obtain comments from the public and affected agencies. This proposed information collection was previously published in the Federal Register (76 FR 69277) on November 8, 2011, allowing for a 60-day comment period. One comment was received. This notice allows for an additional 30 days for public comments. This process is conducted in accordance with 5 CFR 1320.10.

DATES: Written comments should be received on or before February 17, 2012.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

SUPPLEMENTARY INFORMATION: U.S. Customs and Border Protection (CBP) encourages the general public and affected Federal agencies to submit written comments and suggestions on proposed and/or continuing information collection requests pursuant to the Paperwork Reduction Act (Pub. L.104-13). Your comments should address one of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: Entry Summary.

OMB Number: 1651-0022.

Form Number: CBP Form 7501

Abstract: CBP Form 7501, Entry Summary, is used to identify merchandise entering the commerce of the United States, and to document the amount of duty and/or tax paid. CBP Form 7501 is submitted by the importer, or the importer's agent, for each import transaction. The data on this form is used by CBP as a record of the import transaction; to collect the proper duty, taxes, certifications and enforcement information; and to provide data to the U.S. Census Bureau for statistical purposes. Collection of the data on this form is authorized by 19 U.S.C. 1484 and provided for by 19 CFR 142.11 and CFR 141.61. CBP Form 7501 and accompanying instructions can be found at http://www.cbp.gov/xp/cgov/toolbox/forms/.

CBP also proposes to establish a new form called the Document/Payment Transmittal. This form can be used by the trade community to submit additional documentation associated with an ACE entry summary when it involves information that cannot be submitted electronically such as check payments and commercial invoices.

Current Actions: CBP proposes to extend the expiration date of this information collection with a change to the burden hours as a result updated estimates by CBP regarding response times and numbers of entry summaries filed. Also, CBP is proposing to add the new Document/Payment Transmittal form.

Type of Review: Revision and Extension.

Affected Public: Businesses.

CBP Form 7501—Formal Entries

Estimated Number of Respondents: 2,450.

Estimated Number of Responses per Respondent: 9,903.

Estimated Total Annual Responses: 24,262,350.

Estimated Time per Response: 20 minutes.

Estimated Total Annual Burden Hours: 8,079,363.

CBP Form 7501—Formal Entries With Softwood Lumber Agreement

Estimated Number of Respondents: 210.

Estimated Number of Responses per Respondent: 1905.

Estimated Total Annual Responses: 400,050.

Estimated Time per Response: 40 minutes.

Estimated Total Annual Burden Hours: 266,433 .

CBP Form 7501—Informal Entries

Estimated Number of Respondents: 1,572.

Estimated Number of Responses per Respondent: 2,582.

Estimated Total Annual Responses: 4,058,904.

Estimated Time per Response: 15 minutes.

Estimated Total Annual Burden Hours: 1,014,726.

Document/Payment Transmittal

Estimated Number of Respondents: 20.

Estimated Number of Responses per Respondent: 60.

Estimated Total Annual Responses: 1,200.

Estimated Time per Response: 15 minutes.

Estimated Total Annual Burden Hours: 300.

If additional information is required contact: Tracey Denning, U.S. Customs and Border Protection, Regulations and Rulings, Office of International Trade, 799 9th Street NW., 5th Floor, Washington, DC 20229-1177, at (202) 325-0265.

Dated: January 12, 2011.
Tracey Denning,
Agency Clearance Officer, U.S. Customs and Border Protection.

[FR Doc. 2012-843 Filed 1-17-12; 8:45 am]

BILLING CODE 9111-14-P